DEPARTMENT OF COMMERCE

Foreign-Trade Zones Board

[Docket 7-2012]

Foreign-Trade Zone (FTZ) 45—Portland, OR, Epson Portland Inc. (Subzone 45F), Amendment to Application for Expanded Manufacturing Authority (Inkjet Printer Cartridges)

On February 26, 2014, the Port of Portland, grantee of FTZ 45, amended its application to the FTZ Board on behalf of Epson Portland Inc. (EPI), requesting expanded manufacturing authority. The original application was filed by the Board in January 2012 (77 FR 4006-2007, 1/26/2012). The amendment reduces the scope of both products and inputs for which expanded authority is requested.

The amended application requests authority for EPI to elect non-privileged foreign (NPF) status (19 CFR 146.42) on the foreign-sourced materials listed below for EPI to use internally in producing ink subsequently incorporated into EPI's production of inkjet printer cartridges. The amended application does not request authority for EPI to elect NPF status on these materials when EPI makes entry on bulk ink (rather than on finished inkjet printer cartridges).

The amended application lists the following materials sourced from abroad for which it is requesting to admit in NPF status: potassium hydroxide; acrylic alcohols (surfactants); 2-ethyl, 2-propane-1,3diol; glycerin; 2,2 oxydiethanol (diethylene glycol, digol); ether-alcohols (penetrants); adipic acid; triethanolamine & its salts (other emulsifiers); amino acids (stabilizers); N-methyl-2-pyrrolidone; 2-pyrriolidone; benzotriazole; direct dyes & preparations based on these direct dyes (yellow, black, cyan, brown, orange, violet, red, green, magenta, other); preparations based on carbon black; paints and varnish based on acrylic or vinyl polymers (solvents); surface active agents; organic solvents/thinners (containing 5%-25% by weight of one or more aromatic or modified aromatic substances); chemical mixtures (biocides, surfactants); and, plastics, polymers of styrene (duty rates range from free to 6.5%). The amended application also requests authority for EPI to elect privileged foreign (PF) status (19 CFR 146.41) on dispersions of pigments in plastics used in the proposed activity.

Public comment is invited on the amended application through April 14, 2014. Rebuttal comments may be submitted during the subsequent 15-day period, until April 28, 2014. Submissions shall be addressed to the Board's Executive Secretary at: Foreign-Trade Zones Board, U.S. Department of Commerce, Room 21013, 1401 Constitution Ave. NW., Washington, DC 20230.

A copy of the amended application will be available for public inspection at the address above, and in the “Reading Room” section of the Board's Web site, which is accessible via www.trade.gov/ftz.

For further information, contact Diane Finver at Diane.Finver@trade.gov or (202) 482-1367.

Dated: March 7, 2014.
Andrew McGilvray,
Executive Secretary.

[FR Doc. 2014-05533 Filed 3-12-14; 8:45 am]

BILLING CODE 3510-DS-P